DEPARTMENT OF TRANSPORTATION

Federal Aviation Administration

14 CFR Part 73

[Docket No. FAA-2023-2041; Airspace Docket No. 23-ASO-30]

RIN 2120-AA66

Renaming of Restricted Areas R-3002A, R-3002B, R-3002C, R-3002D, R-3002E, R-3002F, and R-3002G; Fort Benning, GA

AGENCY: Federal Aviation Administration (FAA), DOT.

ACTION: Final rule.

SUMMARY: This action is an administrative change to rename restricted areas R-3002A, R-3002B, R-3002C, R-3002D, R-3002E, R-3002F, and R-3002G; Fort Benning, GA, and to update the using agency description to reflect the change. This action partially implements recommendations of the Commission on the Naming of Items (Naming Commission) of the Department of Defense (DoD) as established by section 370 of the Fiscal Year (FY) 2021 National Defense Authorization Act (NDAA).

DATES: Effective date 0901 UTC, January 25, 2024.

ADDRESSES: A copy of this final rule, and all background material may be viewed online at www.regulations.gov using the FAA Docket number. Electronic retrieval help and guidelines are available on the website. It is available 24 hours each day, 365 days each year.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the information in the airspace descriptions of restricted areas R-3002A, R-3002B, R-3002C, R-3002D, R-3002E, R-3002F, and R-3002G.

Background

The FY 2021 NDAA directed the DoD to establish a commission relating to assigning, modifying, or removing of names, symbols, displays, monuments, and paraphernalia to assets of the DoD that commemorate the Confederate States of America or any person who served voluntarily with the Confederate States of America.¹ In January 2023, the Secretary of Defense directed all DoD organizations to begin full implementation of the Naming Commission's recommendations. As approved by the Secretary of Defense, the name “Fort Benning, GA” is changed to “Fort Moore, GA.” Consequently, this rulemaking action implements the requisite changes to part 73 by updating the airspace descriptions of restricted areas R-3002A, R-3002B, R-3002C, R-3002D, R-3002E, R-3002F, and R-3002G to reflect the new name.

¹ Public Law 116-283, 134 Stat. 3388, Jan. 1, 2021.

The Rule

This action amends 14 CFR part 73 by updating the airspace titles and using agency descriptions for restricted areas R-3002A, R-3002B, R-3002C, R-3002D, R-3002E, R-3002F, and R-3002G by removing the name “Fort Benning, GA” and replacing it with “Fort Moore, GA.” This action consists of administrative name changes only and does not affect the boundaries, altitudes, time of designation, or activities conducted in the airspace. Therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of making administrative name changes to restricted areas R-3002A, R-3002B, R-3002C, R-3002D, R-3002E, R-3002F, and R-3002G, which do not alter the boundaries, altitudes, or time of designation, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5d—Modification of the technical description of special use airspace (SUA) that does not alter the dimensions, altitudes, or times of designation of the airspace (such as changes in designation of the controlling or using agency, or correction of typographical errors). In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 73

Airspace, Prohibited areas, Restricted areas.

The Amendment

In consideration of the foregoing, the Federal Aviation Administration amends 14 CFR part 73 as follows:

PART 73—SPECIAL USE AIRSPACE

1. The authority citation for 14 CFR part 73 continues to read as follows:

Authority: 49 U.S.C. 106(f), 106(g), 40103, 40113, 40120; E.O. 10854, 24 FR 9565, 3 CFR, 1959-1963 Comp., p.389.

§ 73.30 Georgia [Amended]

2. Section 73.30 is amended as follows:

* * * * *

R-3002A, Fort Benning, GA [Removed]

R-3002B, Fort Benning, GA [Removed]

R-3002C, Fort Benning, GA [Removed]

R-3002D, Fort Benning, GA [Removed]

R-3002E, Fort Benning, GA [Removed]

R-3002F, Fort Benning, GA [Removed]

R-3002G, Fort Benning, GA [Removed]

R-3002A Fort Moore, GA [New]

Boundaries. Beginning at lat. 32°31′12″ N, long. 84°50′11″ W; to lat. 32°19′03″ N, long. 84°41′42″ W; thence along the Central of Georgia Railroad; to lat. 32°19′09″ N, long. 84°42′27″ W; to lat. 32°19′14″ N, long. 84°42′52″ W; to lat. 32°19′23″ N, long. 84°43′18″ W; to lat. 32°19′35″ N, long. 84°43′49″ W; to lat. 32°19′43″ N, long. 84°44′29″ W; to lat. 32°19′55″ N, long. 84°45′06″ W; to lat. 32°20′13″ N, long. 84°45′54″ W; to lat. 32°20′30″ N, long. 84°46′32″ W; to lat. 32°20′53″ N, long. 84°46′55″ W; to lat. 32°20′55″ N, long. 84°47′38″ W; to lat. 32°15′25″ N, long. 84°47′32″ W; to lat. 32°15′26″ N, long. 84°48′37″ W; to lat. 32°15′17″ N, long. 84°48′37″ W; thence along River Bend Road; to lat. 32°15′17″ N, long. 84°48′48″ W; to lat. 32°15′06″ N, long. 84°49′08″ W; to lat. 32°14′48″ N, long. 84°49′26″ W; to lat. 32°14′38″ N, long. 84°49′53″ W; to lat. 32°14′32″ N, long. 84°50′15″ W; to lat. 32°14′22″ N, long. 84°50′30″ W; to lat. 32°14′12″ N, long. 84°50′36″ W; to lat. 32°14′22″ N, long. 84°52′22″ W; to lat. 32°15′07″ N, long. 84°52′21″ W; to lat. 32°15′06″ N, long. 84°52′38″ W; to lat. 32°15′33″ N, long. 84°52′37″ W; to lat. 32°15′34″ N, long. 84°53′11″ W; to lat. 32°20′15″ N, long. 84°58′36″ W; thence along Dixie Rd./First Division Rd; to lat. 32°20′36″ N, long. 84°58′15″ W; to lat. 32°20′53″ N, long. 84°57′55″ W; to lat. 32°21′03″ N, long. 84°57′40″ W; to lat. 32°21′11″ N, long. 84°57′24″ W; to lat. 32°21′08″ N, long. 84°56′55″ W; to lat. 32°21′13″ N, long. 84°56′04″ W; to lat. 32°21′33″ N, long. 84°55′35″ W; to lat. 32°21′50″ N, long. 84°55′16″ W; to lat. 32°21′53″ N, long. 84°55′00″ W; to lat. 32°22′06″ N, long. 84°54′41″ W; to lat. 32°23′01″ N, long. 84°55′44″ W; to lat. 32°24′48″ N, long. 84°52′52″ W; to lat. 32°25′36″ N, long. 84°52′52″ W; to lat. 32°25′44″ N, long. 84°53′30″ W; to lat. 32°26′19″ N, long. 84°53′31″ W; to lat. 32°26′20″ N, long. 84°53′54″ W; to lat. 32°27′19″ N, long. 84°53′53″ W; to lat. 32°27′17″ N, long. 84°52′10″ W; to lat. 32°28′46″ N, long. 84°52′08″ W; to lat. 32°28′44″ N, long. 84°50′47″ W; to lat. 32°29′43″ N, long. 84°50′59″ W; to lat. 32°30′35″ N, long. 84°50′50″ W; to lat. 32°30′39″ N, long. 84°50′23″ W; thence to the point of beginning.

Designated altitudes. Surface to 4,000 feet MSL.

Time of designation. Intermittent, 0600-0200 local time, daily; other times by NOTAM 6 hours in advance.

Controlling agency. FAA, Atlanta TRACON.

Using agency. U.S. Army, Commanding General, Infantry Center and Fort Moore, GA.

R-3002B Fort Moore, GA [New]

Boundaries. Beginning at lat. 32°31′12″ N, long. 84°50′11″ W; to lat. 32°19′03″ N, long. 84°41′42″ W; thence along the Central of Georgia Railroad; to lat. 32°19′09″ N, long. 84°42′27″ W; to lat. 32°19′14″ N, long. 84°42′52″ W; to lat. 32°19′23″ N, long. 84°43′18″ W; to lat. 32°19′35″ N, long. 84°43′49″ W; to lat. 32°19′43″ N, long. 84°44′29″ W; to lat. 32°19′55″ N, long. 84°45′06″ W; to lat. 32°20′13″ N, long. 84°45′54″ W; to lat. 32°20′30″ N, long. 84°46′32″ W; to lat. 32°20′53″ N, long. 84°46′55″ W; to lat. 32°20′55″ N, long. 84°47′38″ W; to lat. 32°15′25″ N, long. 84°47′32″ W; to lat. 32°15′26″ N, long. 84°48′37″ W; to lat. 32°15′17″ N, long. 84°48′37″ W; thence along River Bend Road; to lat. 32°15′17″ N, long. 84°48′48″ W; to lat. 32°15′06″ N, long. 84°49′08″ W; to lat. 32°14′48″ N, long. 84°49′26″ W; to lat. 32°14′38″ N, long. 84°49′53″ W; to lat. 32°14′32″ N, long. 84°50′15″ W; to lat. 32°14′22″ N, long. 84°50′30″ W; to lat. 32°14′12″ N, long. 84°50′36″ W; to lat. 32°14′22″ N, long. 84°52′22″ W; to lat. 32°15′07″ N, long. 84°52′21″ W; to lat. 32°15′06″ N, long. 84°52′38″ W; to lat. 32°15′33″ N, long. 84°52′37″ W; to lat. 32°15′34″ N, long. 84°53′11″ W; to lat. 32°20′15″ N, long. 84°58′36″ W; thence along Dixie Rd/First Division Rd; to lat. 32°20′36″ N, long. 84°58′15″ W; to lat. 32°20′53″ N, long. 84°57′55″ W; to lat. 32°21′03″ N, long. 84°57′40″ W; to lat. 32°21′11″ N, long. 84°57′24″ W; to lat. 32°21′08″ N, long. 84°56′55″ W; to lat. 32°21′13″ N, long. 84°56′04″ W; to lat. 32°21′33″ N, long. 84°55′35″ W; to lat. 32°21′50″ N, long. 84°55′16″ W; to lat. 32°21′53″ N, long. 84°55′00″ W; to lat. 32°22′06″ N, long. 84°54′41″ W; to lat. 32°23′01″ N, long. 84°55′44″ W; to lat. 32°24′48″ N, long. 84°52′52″ W; to lat. 32°25′36″ N, long. 84°52′52″ W; to lat. 32°25′44″ N, long. 84°53′30″ W; to lat. 32°26′19″ N, long. 84°53′31″ W; to lat. 32°26′20″ N, long. 84°53′54″ W; to lat. 32°27′19″ N, long. 84°53′53″ W; to lat. 32°27′17″ N, long. 84°52′10″ W; to lat. 32°28′46″ N, long. 84°52′08″ W; to lat. 32°28′44″ N, long. 84°50′47″ W; to lat. 32°29′43″ N, long. 84°50′59″ W; to lat. 32°30′35″ N, long. 84°50′50″ W; to lat. 32°30′39″ N, long. 84°50′23″ W; thence to the point of beginning.

Designated altitudes. 4,000 feet MSL to 8,000 feet MSL.

Time of designation. Intermittent, 0600-0200 local time, daily; other times by NOTAM 6 hours in advance.

Controlling agency. FAA, Atlanta TRACON.

Using agency. U.S. Army, Commanding General, Infantry Center and Fort Moore, GA.

R-3002C Fort Moore, GA [New]

Boundaries. Beginning at lat. 32°31′12″ N, long. 84°50′11″ W; to lat. 32°19′03″ N, long. 84°41′42″ W; thence along the Central of Georgia Railroad; to lat. 32°19′09″ N, long. 84°42′27″ W; to lat. 32°19′14″ N, long. 84°42′52″ W; to lat. 32°19′23″ N, long. 84°43′18″ W; to lat. 32°19′35″ N, long. 84°43′49″ W; to lat. 32°19′43″ N, long. 84°44′29″ W; to lat. 32°19′55″ N, long. 84°45′06″ W; to lat. 32°20′13″ N, long. 84°45′54″ W; to lat. 32°20′30″ N, long. 84°46′32″ W; to lat. 32°20′53″ N, long. 84°46′55″ W; to lat. 32°20′55″ N, long. 84°47′38″ W; to lat. 32°15′25″ N, long. 84°47′32″ W; to lat. 32°15′26″ N, long. 84°48′37″ W; to lat. 32°15′17″ N, long. 84°48′37″ W; thence along River Bend Road; to lat. 32°15′17″ N, long. 84°48′48″ W; to lat. 32°15′06″ N, long. 84°49′08″ W; to lat. 32°14′48″ N, long. 84°49′26″ W; to lat. 32°14′38″ N, long. 84°49′53″ W; to lat. 32°14′32″ N, long. 84°50′15″ W; to lat. 32°14′22″ N, long. 84°50′30″ W; to lat. 32°14′12″ N, long. 84°50′36″ W; to lat. 32°14′22″ N, long. 84°52′22″ W; to lat. 32°15′07″ N, long. 84°52′21″ W; to lat. 32°15′06″ N, long. 84°52′38″ W; to lat. 32°15′33″ N, long. 84°52′37″ W; to lat. 32°15′34″ N, long. 84°53′11″ W; to lat. 32°20′15″ N, long. 84°58′36″ W; thence along Dixie Rd/First Division Rd; to lat. 32°20′36″ N, long. 84°58′15″ W; to lat. 32°20′53″ N, long. 84°57′55″ W; to lat. 32°21′03″ N, long. 84°57′40″ W; to lat. 32°21′11″ N, long. 84°57′24″ W; to lat. 32°21′08″ N, long. 84°56′55″ W; to lat. 32°21′13″ N, long. 84°56′04″ W; to lat. 32°21′33″ N, long. 84°55′35″ W; to lat. 32°21′50″ N, long. 84°55′16″ W; to lat. 32°21′53″ N, long. 84°55′00″ W; to lat. 32°22′06″ N, long. 84°54′41″ W; to lat. 32°23′01″ N, long. 84°55′44″ W; to lat. 32°24′48″ N, long. 84°52′52″ W; to lat. 32°25′36″ N, long. 84°52′52″ W; to lat. 32°25′44″ N, long. 84°53′30″ W; to lat. 32°26′19″ N, long. 84°53′31″ W; to lat. 32°26′20″ N, long. 84°53′54″ W; to lat. 32°27′19″ N, long. 84°53′53″ W; to lat. 32°27′17″ N, long. 84°52′10″ W; to lat. 32°28′46″ N, long. 84°52′08″ W; to lat. 32°28′44″ N, long. 84°50′47″ W; to lat. 32°29′43″ N, long. 84°50′59″ W; to lat. 32°30′35″ N, long. 84°50′50″ W; to lat. 32°30′39″ N, long. 84°50′23″ W; thence to the point of beginning.

Designated altitudes. 8,000 feet MSL to 14,000 feet MSL.

Time of designation. Intermittent by NOTAM 6 hours in advance.

Controlling agency. FAA, Atlanta TRACON.

Using agency. U.S. Army, Commanding General, Infantry Center and Fort Moore, GA.

R-3002D Fort Moore, GA [New]

Boundaries. Beginning at lat. 32°31′12″ N, long. 84°50′11″ W; to lat. 32°31′52″ N, long. 84°50′25″ W; to lat. 32°33′05″ N, long. 84°45′27″ W; thence along the Central of Georgia Railroad; to lat. 32°32′52″ N, long. 84°45′00″ W; to lat. 32°32′43″ N, long. 84°44′08″ W; to lat. 32°32′34″ N, long. 84°43′40″ W; to lat. 32°32′22″ N, long. 84°43′13″ W; to lat. 32°32′18″ N, long. 84°42′53″ W; to lat. 32°32′08″ N, long. 84°42′38″ W; to lat. 32°32′05″ N, long. 84°42′26″ W; to lat. 32°32′11″ N, long. 84°42′12″ W; to lat. 32°32′13″ N, long. 84°41′54″ W; to lat. 32°32′10″ N, long. 84°41′38″ W; to lat. 32°32′06″ N, long. 84°41′25″ W; to lat. 32°32′08″ N, long. 84°41′17″ W; to lat. 32°32′15″ N, long. 84°41′01″ W; to lat. 32°32′20″ N, long. 84°40′56″ W; to lat. 32°32′07″ N, long. 84°40′44″ W; to lat. 32°31′06″ N, long. 84°41′43″ W; to lat. 32°31′04″ N, long. 84°40′54″ W; to lat. 32°32′04″ N, long. 84°38′16″ W; to lat. 32°29′16″ N, long. 84°38′17″ W; to lat. 32°29′10″ N, long. 84°39′25″ W; to lat. 32°18′35″ N, long. 84°39′30″ W; to lat. 32°18′23″ N, long. 84°41′09″ W; to lat. 32°19′03″ N, long. 84°41′42″ W; thence to the point of beginning.

Designated altitudes. Surface to 8,000 feet MSL.

Time of designation. Intermittent, 0600-0200 local time, daily; other times by NOTAM 6 hours in advance.

Controlling agency. FAA, Atlanta TRACON.

Using agency. U.S. Army, Commanding General, Infantry Center and Fort Moore, GA.

R-3002E Fort Moore, GA [New]

Boundaries. Beginning at lat. 32°31′12″ N, long. 84°50′11″ W; to lat. 32°31′52″ N, long. 84°50′25″ W; to lat. 32°33′05″ N, long. 84°45′27″ W; thence along the Central of Georgia Railroad; to lat. 32°32′52″ N, long. 84°45′00″ W; to lat. 32°32′43″ N, long. 84°44′08″ W; to lat. 32°32′34″ N, long. 84°43′40″ W; to lat. 32°32′22″ N, long. 84°43′13″ W; to lat. 32°32′18″ N, long. 84°42′53″ W; to lat. 32°32′08″ N, long. 84°42′38″ W; to lat. 32°32′05″ N, long. 84°42′26″ W; to lat. 32°32′11″ N, long. 84°42′12″ W; to lat. 32°32′13″ N, long. 84°41′54″ W; to lat. 32°32′10″ N, long. 84°41′38″ W; to lat. 32°32′06″ N, long. 84°41′25″ W; to lat. 32°32′08″ N, long. 84°41′17″ W; to lat. 32°32′15″ N, long. 84°41′01″ W; to lat. 32°32′20″ N, long. 84°40′56″ W; to lat. 32°32′07″ N, long. 84°40′44″ W; to lat. 32°31′06″ N, long. 84°41′43″ W; to lat. 32°31′04″ N, long. 84°40′54″ W; to lat. 32°32′04″ N, long. 84°38′16″ W; to lat. 32°29′16″ N, long. 84°38′17″ W; to lat. 32°29′10″ N, long. 84°39′25″ W; to lat. 32°18′35″ N, long. 84°39′30″ W; to lat. 32°18′23″ N, long. 84°41′09″ W; to lat. 32°19′03″ N, long. 84°41′42″ W; thence to the point of beginning.

Designated altitudes. 8,000 feet MSL to 14,000 feet MSL.

Time of designation. Intermittent by NOTAM 6 hours in advance.

Controlling agency. FAA, Atlanta TRACON.

Using agency. U.S. Army, Commanding General, Infantry Center and Fort Moore, GA.

R-3002F Fort Moore, GA [New]

Boundaries. Beginning at lat. 32°27′17″ N, long. 84°52′10″ W; to lat. 32°28′46″ N, long. 84°52′08″ W; to lat. 32°28′44″ N, long. 84°50′47″ W; to lat. 32°29′43″ N, long. 84°50′59″ W; to lat. 32°30′35″ N, long. 84°50′50″ W; to lat. 32°30′39″ N, long. 84°50′23″ W; to lat. 32°31′12″ N, long. 84°50′11″ W; to lat. 32°31′52″ N, long. 84°50′25″ W; to lat. 32°33′05″ N, long. 84°45′27″ W; thence along the Central of Georgia Railroad; to lat. 32°32′52″ N, long. 84°45′00″ W; to lat. 32°32′43″ N, long. 84°44′08″ W; to lat. 32°32′34″ N, long. 84°43′40″ W; to lat. 32°32′22″ N, long. 84°43′13″ W; to lat. 32°32′18″ N, long. 84°42′53″ W; to lat. 32°32′08″ N, long. 84°42′38″ W; to lat. 32°32′05″ N, long. 84°42′26″ W; to lat. 32°32′11″ N, long. 84°42′12″ W; to lat. 32°32′13″ N, long. 84°41′54″ W; to lat. 32°32′10″ N, long. 84°41′38″ W; to lat. 32°32′06″ N, long. 84°41′25″ W; to lat. 32°32′08″ N, long. 84°41′17″ W; to lat. 32°32′15″ N, long. 84°41′01″ W; to lat. 32°32′20″ N, long. 84°40′56″ W; to lat. 32°32′07″ N, long. 84°40′44″ W; to lat. 32°31′06″ N, long. 84°41′43″ W; to lat. 32°31′04″ N, long. 84°40′54″ W; to lat. 32°32′04″ N, long. 84°38′16″ W; to lat. 32°29′16″ N, long. 84°38′17″ W; to lat. 32°29′10″ N, long. 84°39′25″ W; to lat. 32°18′35″ N, long. 84°39′30″ W; to lat. 32°18′23″ N, long. 84°41′09″ W; to lat. 32°19′03″ N, long. 84°41′42″ W; thence along the Central of Georgia Railroad; to lat. 32°19′09″ N, long. 84°42′27″ W; to lat. 32°19′14″ N, long. 84°42′52″ W; to lat. 32°19′23″ N, long. 84°43′18″ W; to lat. 32°19′35″ N, long. 84°43′49″ W; to lat. 32°19′43″ N, long. 84°44′29″ W; to lat. 32°19′55″ N, long. 84°45′06″ W; to lat. 32°20′13″ N, long. 84°45′54″ W; to lat. 32°20′30″ N, long. 84°46′32″ W; to lat. 32°20′53″ N, long. 84°46′55″ W; to lat. 32°20′55″ N, long. 84°47′38″ W; thence to the point of beginning.

Designated altitudes. 14,000 feet MSL to FL 250.

Time of designation. Intermittent by NOTAM 6 hours in advance.

Controlling agency. FAA, Atlanta TRACON.

Using agency. U.S. Army, Commanding General, Infantry Center and Fort Moore, GA.

R-3002G Fort Moore, GA [New]

Boundaries. Beginning at lat. 32°20′15″ N, long. 84°58′36″ W; to lat. 32°15′34″ N, long. 84°53′11″ W; to lat. 32°15′32″ N, long. 84°54′02″ W; to lat. 32°15′04″ N, long. 84°55′24″ W; to lat. 32°14′27″ N, long. 84°54′50″ W; to lat. 32°14′25″ N, long. 84°56′53″ W; to lat. 32°14′36″ N, long. 84°56′53″ W; to lat. 32°14′38″ N, long. 84°57′56″ W; to lat. 32°16′36″ N, long. 84°57′58″ W; to lat. 32°16′36″ N, long. 84°58′35″ W; to lat. 32°17′39″ N, long. 84°58′35″ W; to lat. 32°17′40″ N, long. 84°58′54″ W; thence to the point of beginning.

Designated altitudes. Surface to 14,000 feet MSL.

Time of designation. Intermittent, 0600-0200 Eastern time daily; other times by NOTAM 6 hours in advance.

Controlling agency. FAA, Atlanta TRACON.

Using agency. U.S. Army, Commanding General, Infantry Center and Fort Moore, GA.

* * * * *

Issued in Washington, DC, on November 16, 2023.
Karen L. Chiodini,
Acting Manager, Rules and Regulations Group.

[FR Doc. 2023-25849 Filed 11-22-23; 8:45 am]

BILLING CODE 4910-13-P